DEPARTMENT OF TRANSPORTATION

Research and Innovative Technology Administration

Invitation for Public Comment on Strategic Research Direction, Research Priority Areas and Performance Metrics To Guide Departmental Strategic Plan for Research, Development and Technology Activities (2010—2015)

AGENCY: Research and Innovative Technology Administration, DOT.

ACTION: Notice, request for public comments.

SUMMARY: The U.S. Department of Transportation (U.S. DOT) is providing notice that it is engaging in a strategic planning effort that will guide the Department's research, development, and technology activities as required by SAFETEA-LU. The Research and Innovative Technology Administration (RITA)'s Office of Research, Development, and Technology (RD&T) is coordinating this effort in collaboration with partner modal administrations and offices across the U.S. DOT. As recommended by the U.S. Government Accountability Office (GAO) and the National Research Council (NRC), RITA and its partners are seeking public stakeholder input on research strategies and metrics necessary to achieve U.S. DOT strategic transportation goals and to drive transportation policy in both the short and long terms.

The U.S. DOT's research, development, and technology (RD&T) efforts and outcomes play critical roles in attaining the vision of a safe, truly multimodal transportation system that provides the traveling public and U.S. businesses with safe, convenient, affordable and environmentally sustainable transportation choices. A previous DOT Research, Development, and Technology Strategic Plan was published in 2006 and served as a compendium of modal research pursuits at that time. The Department is now pursuing a more cross-modal, collaborative and strategic planning process to cover the years 2010-2015 and to address the proposed Departmental key priorities as outlined in the Background section.

DATES: Comment Period: Written comments should be submitted by February 8, 2010.

ADDRESSES: You may submit comments identified by RITA Docket ID Number RITA 2009-0005 by any of the following methods:

○ Federal eRulemaking Portal: Go to http://www.regulations.gov. Follow the online instructions for submitting comments.

○ Mail: Docket Management Facility: U.S. Department of Transportation, 1200 New Jersey Avenue, SE., West Building Ground Floor, Room W12-140, Washington, DC 20590-0001.

○ Hand Delivery or Courier: West Building Ground Floor, Room W12-140, 1200 New Jersey Avenue, SE., Washington, DC, between 9 a.m. and 5 p.m. ET, Monday through Friday, except Federal holidays.

○ Fax: 202-493-2251.

Instructions: Identify docket number, RITA 2009-0005, at the beginning of your comments. To receive confirmation that DOT received your comments, include a self-addressed stamped postcard containing the Docket number.

All comments received by DOT will be posted at http://www.regulations.gov. All comments/questions will be posted electronically without change or edits, including any personal information provided.

Privacy Act: Anyone is able to search the electronic form of all comments/questions filed in our dockets by the name of the individual submitting the comment or question (or signing the comment, if submitted on behalf of an association, corporation, business entity, labor union, etc.). You may review DOT's complete Privacy Act Statement in the Federal Register published on April 11, 2000 (65 FR 19477-78) or you may visit http://DocketInfo.dot.gov.

FOR FURTHER INFORMATION CONTACT: M.J. Fiocco, Office of Research, Development and Technology, Research and Innovative Technology Administration, Telephone Number (202) 366-8018, or E-mail—mj.fiocco@dot.gov.

SUPPLEMENTARY INFORMATION:

Background

The Safe, Accountable, Flexible, Efficient Transportation Act: A Legacy for Users (SAFETEA-LU) enacted in 2005 called for the U.S. DOT to develop a strategic plan to guide its RD&T activities. The strategic plan being pursued as outlined in this notice addresses this requirement and also responds to feedback from the National Research Council's review (http://onlinepubs.trb.org/onlinepubs/reports/letterreport_usdotrd&tplan.pdf) of an earlier plan, published in 2006, “Transportation Research, Development and Technology Strategic Plan 2006-2010” (http://www.rita.dot.gov/publications/transportation_rd_t_strategic_plan/pdf/entire.pdf), and the recommendations of the GAO report published in 2006, “Transportation Research: Opportunities for Improving the Oversight of DOT's Research Programs and User Satisfaction with Transportation” (http://www.gao.gov/new.items/d06917.pdf).

The U.S. DOT, with leadership and coordination from its Research and Innovative Technology Administration (RITA), is engaged in an ongoing collaborative process involving all of the U.S. DOT operating administrations. Two cross-modal bodies participate in this process: the RD&T Planning Council (composed of the heads of the operating administrations, the Under Secretary for Policy, and other senior U.S. DOT leaders) and the RD&T Planning Team, which includes the Associate Administrators for RD&T in each operating administration. Through this Federal Register notice, the U.S. DOT is seeking input from stakeholders including individual citizens, members of the private sector, the academic community, non-governmental organizations, and other interested parties.

Stakeholder suggestions for strategic research direction, research priority areas and performance metrics for research outcomes should be aligned, if possible, with the new key priorities for the Department, that will be set forth in the U.S. DOT's 2010-2015 Strategic Plan (which is still in development) for all federal transportation programs and activities. Other high priority research areas also are invited. Stakeholder suggestions also should provide overall guidance for DOT RD&T activities over the next five years and provide a high level view of appropriate research areas. Suggestions for longer term research needs also are welcome. These DOT key priorities include:

• Safety—Fostering a safety culture in our daily work and encouraging our partners, stakeholders and the public to redouble their efforts to reduce transportation-related fatalities and injuries.

• Livable Communities—Creating livable communities that provide residents with affordable transportation options to promote increased access to jobs, school, health services, and other activities for our citizens while improving the quality of life in their communities.

• State of Good Repair—Adequately maintaining and modernizing our vast, existing infrastructure to maximize its reliability, capacity and performance, to reduce operational and replacement costs and to extend the system's useful life.

• Economic Competitiveness—Achieving the maximum economic impact from our transportation investments and lay the groundwork for long-term economic growth and prosperity.

• Environmental Sustainability—Advancing transportation policies and investments that reduce carbon emissions and consumption of fossil fuels as well as protecting and enhancing natural resources.

The RD&T strategic planning process is collaborative, cross-modal, and forward looking, focusing on articulating the U.S. DOT's key research priorities with measurable outcomes over the next five years. The process is taking a department-wide, systems-level view of the multimodal transportation system, and is setting strategies to address research areas that stress a multi-modal-oriented perspective as well as a modal-specific and modal-funded perspective. The strategies described in the plan will be designed to ensure that RD&T resources are invested wisely to achieve measurable improvements in our Nation's transportation system.

Issued in Washington, DC on December 23, 2009.
Robert L. Bertini,
Deputy Administrator.

[FR Doc. E9-30944 Filed 1-7-10; 8:45 am]

BILLING CODE 4910-HY-P